DEPARTMENT OF COMMERCE

Office of the Secretary

15 CFR Part 4a

[Docket No. 990723201-1208-02]

RIN: 0605-AA14

Public Information, Freedom of Information and Privacy; Correction

AGENCY: Department of Commerce.

ACTION: Final rule; correction.

SUMMARY: The Department of Commerce (“Department”) published in the Federal Register of December 20, 2001, a final rule concerning revisions of the Department's regulations regarding the Freedom of Information Act, Privacy Act, and declassification and public availability of national security information. A typographical error misidentified Part 4a of the regulations. This document corrects that error.

DATES: Effective December 20, 2001.

FOR FURTHER INFORMATION CONTACT: Andrew W. McCready, 202-482-8044

SUPPLEMENTARY INFORMATION: The Department of Commerce (“Department”) published in the Federal Register of December 20, 2001 (66 FR 65631), a final rule concerning revisions of the Department's regulations regarding the Freedom of Information Act, Privacy Act, and declassification and public availability of national security information. The revisions implemented the Electronic Freedom of Information Act Amendments of 1996 and Executive Order 12958, included an updated duplication fee, and streamlined, clarified and updated the regulations. At the top of the first column of page 65650 of that Federal Register document, it mistakenly reads “Part 2 is revised to read as follows:” That language is a typographical error. The revisions of the regulations referred to in that line are to Part 4a. Accordingly, change that language to read “2. Part 4a is revised to read as follows:”

Dated: January 10, 2002.
Robert F. Kugelman,
Director, Office of Executive Budgeting and Assistance Management.

[FR Doc. 02-1074 Filed 1-15-02; 8:45 am]

BILLING CODE 3510-BW-P